DEPARTMENT OF TRANSPORTATION

Federal Motor Carrier Safety Administration

[Docket No. FMCSA-2025-0424]

Parts and Accessories Necessary for Safe Operation; Application for Exemption From Atlantic Aviation Orlando, LLC

AGENCY: Federal Motor Carrier Safety Administration (FMCSA), DOT.

ACTION: Notice of application for exemption; request for comments.

SUMMARY: The Federal Motor Carrier Safety Administration (FMCSA) requests public comment on an application for a 5-year exemption submitted by Atlantic Aviation Orlando, LLC (Atlantic). Atlantic seeks an exemption from 49 CFR 393.83(e), which requires the exhaust system on certain commercial motor vehicles to discharge at or near the rear of the cab. The exemption would allow Atlantic's jet-fueler trucks to discharge exhaust forward of the cab when operating on public roads. FMCSA requests public comment on Atlantic's application.

DATES: Comments must be received on or before December 24, 2025.

ADDRESSES: You may submit comments identified by Federal Docket Management System (FDMS) Number FMCSA-2025-0424 by any of the following methods:

• Federal eRulemaking Portal: www.regulations.gov. See the Public Participation and Request for Comments section below for further information.

• Mail: Dockets Operations, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m. E.T., Monday through Friday, except Federal holidays.

• Fax: (202) 493-2251.

Each submission must include the Agency name and the docket number (FMCSA-2025-0424) for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. To be sure someone is there to help you, please call (202) 366-9317 or (202) 366-9826 before visiting Dockets Operations.

Privacy Act: In accordance with 49 U.S.C. 31315(b), DOT solicits comments from the public to better inform its exemption process. DOT posts these comments, without edit, including any personal information the commenter provides, to www.regulations.gov. As described in the system of records notice DOT/ALL 14-FDMS, which can be reviewed at https://www.transportation.gov/privacy, the comments are searchable by the name of the submitter.

FOR FURTHER INFORMATION CONTACT: Mr. David Sutula, Chief, Vehicle and Roadside Operations Division, Office of Carrier, Driver, and Vehicle Safety, FMCSA, at (202)-961-1373, or by email at MCPSV@dot.gov.

If you have questions on viewing or submitting material to the docket, contact Dockets Operations at (202) 366-9826.

SUPPLEMENTARY INFORMATION:

I. Public Participation and Request for Comments

FMCSA encourages you to participate by submitting comments and related materials.

Submitting Comments

If you submit a comment, please include the docket number for this notice (FMCSA-2025-0424), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number “FMCSA-2025-0424” in the keyword box, and click “Search.” Next, sort the results by “Posted (Newer-Older),” choose the first notice listed, click the “Comment” button, and type your comment into the text box on the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including any safety analyses that have been conducted. The Agency must provide an opportunity for public comment on the request.

The Agency reviews the application, safety analyses, and public comments submitted and determines whether granting the exemption would likely achieve a level of safety equivalent to, or greater than, the level that would be achieved by the current regulation (49 CFR 381.305). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Current Regulatory Requirements

Section 393.83(e) of the FMCSRs requires the exhaust system of a bus, truck, or truck tractor to discharge to the atmosphere at or near the rear of the cab (i.e., not forward of the cab).

Applicant's Request

Atlantic Aviation Orlando, LLC requests an exemption from 49 CFR 393.83(e) to allow four jet-fuel refueler straight trucks (units JT-01, JT-03, JT-04, and JT-07) to continue operating with exhaust outlets located forward of the cab, as designed, while conducting escorted movements within Orlando International Airport, traveling approximately a one-mile round trip between Atlantic's facilities at 9245 Tradeport Drive and the Airport Fuel facilities at 3800 Express Street. Atlantic states the vehicles' exhaust outlets were installed below the front bumper to comply with the National Fire Protection Association (NFPA) 407 Section 6.1.13.4, which prohibits discharging exhaust where it could ignite fuel vapors present during normal operations or released by accidental spillage or leakage. Atlantic asserts that discharging exhaust rearward, where fuel vapors may be present, poses a safety risk that could create ignition hazards or risk aircraft damage.

To support an equivalent level of safety, Atlantic provided results of in-cab carbon monoxide (CO) testing on three of their jet-fuel refulers trucks JT-01, JT-03 and JT-07, showing 0 parts per million (ppm) CO under idle and top-speed conditions, corresponding to an 8-hour time-weighted average of 0 ppm which is below the Occupational Safety and Health Administration (OSHA) Permissible Exposure Limit (PEL) of 50 ppm.

A copy of Atlantic's application for exemption, and all supporting materials, are available for review in the docket for this notice.

IV. Request for Comments

In accordance with 49 U.S.C. 31315(b), FMCSA requests public comment from all interested persons on Atlantic's application for a five-year exemption from 49 CFR 393.95(f), 392.22(a), and 392.22(b) (f).

All comments received before the close of business on the comment closing date will be considered and will be available for examination in the docket at the location listed under the Addresses section of this notice. Comments received after the comment closing date will be filed in the public docket and may be considered to the extent practicable. In addition to late comments, FMCSA will also continue to file, in the public docket, relevant information that becomes available after the comment closing date. Interested persons should continue to examine the public docket for new material.

Larry W. Minor,
Associate Administrator for Policy.

[FR Doc. 2025-20675 Filed 11-21-25; 8:45 am]

BILLING CODE 4910-EX-P